DEPARTMENT OF THE INTERIOR

Fish and Wildlife Service

Information Collection Renewal Submitted to the Office of Management and Budget (OMB) for Approval Under the Paperwork Reduction Act; OMB Control Number 1018-0103, Conservation Order for Control of Mid-Continent Light Geese, 50 CFR 21.60

AGENCY: Fish and Wildlife Service, Interior.

ACTION: Notice; request for comments.

SUMMARY: The number of mid-continent light geese (MCLG) has increased exponentially over the past several decades in prairie Canada and the midwestern United States, primarily due to (1) the expansion of agriculture and concurrent increase in food supply, (2) a decline in adult mortality, and (3) an increase in winter survival. These rapidly expanding populations have placed unprecedented pressure on arctic and subarctic breeding habitats. Prior to implementation of the conservation order, we (Fish and Wildlife Service) attempted to curb the growth rate of MCLG populations by liberalizing bag limits and increasing the light goose hunting season to 107 days, the maximum allowed by the Migratory Bird Treaty Act, as amended. Although these changes resulted in increased harvest, the harvest rate (percent of population harvested) continued to decline as populations grew exponentially. Clearly, traditional wildlife management strategies were not working. Therefore, we created the conservation order, which authorizes States and tribes to implement population control measures without having to obtain a permit, thus significantly reducing their administrative burden. The States and tribes may conduct a population reduction program under the authority of the conservation order within the conditions provided by the Service. We have submitted the collection of information pertaining to the conservation order (described below) to OMB for approval under the provisions of the Paperwork Reduction Act of 1995.

DATES: You must submit comments on or before May 2, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection request or explanatory information, contact Hope Grey at the above addresses or by phone at (703) 358-2482.

SUPPLEMENTARY INFORMATION: We have submitted a request to OMB to renew approval of information collection requirements for the Conservation Order for Control of Mid-Continent Light Geese. Currently, we have approval from OMB to collect information under OMB control number 1018-0103. This approval expires on March 31, 2005. We may not conduct or sponsor and a person is not required to respond to a collection of information unless we display a currently valid OMB control number. OMB regulations at 5 CFR 1320, which implement provisions of the Paperwork Reduction Act of 1995 (44 U.S.C. 3501 et seq.), require that interested members of the public and affected agencies have an opportunity to comment on information collection and recordkeeping activities (see 5 CFR 1320.8(d)). Following our submittal, OMB has up to 60 days to approve or disapprove our information collection request; however, OMB may make its decision as early as 30 days after our submittal. Therefore, to ensure that your comments receive consideration, send your comments and suggestions to OMB by the date listed in the DATES section.

On November 15, 2004, we published in the Federal Register (69 FR 65627) a 60-day notice of our intent to request renewal of information collection authority from OMB. In that notice, we solicited public comments for 60 days, ending on January 14, 2005. We did not receive any comments.

Lesser snow and Ross' geese are referred to as “light” geese because of their light coloration as opposed to “dark” geese such as white-fronted or Canada Geese. The number of light geese in the mid-continent region has nearly quadrupled during the past several decades. Feeding activity of light geese seriously injures their habitat and habitat important to other migratory birds, which poses a serious threat to the short- and long-term health and status of some migratory bird populations. We believe that the number of light geese in the mid-continent region has exceeded long-term sustainable levels for their arctic and subarctic breeding habitats and the populations must be reduced. Authority for managing overabundant mid-continent light geese is contained in 50 CFR 21.

For management purposes, light geese found in the mid-continent region are separated into two different populations. Lesser snow and Ross' geese that primarily migrate through North Dakota, South Dakota, Nebraska, Kansas, Iowa, and Missouri, and winter in Arkansas, Louisiana, Mississippi, and eastern, central, and southern Texas and other Gulf States are referred to as the mid-continent population of light geese. Lesser snow and Ross' geese that primarily migrate through Montana, Wyoming, and Colorado and winter in New Mexico, northwestern Texas, and Chihuahua, Mexico are referred to as the western central flyway population of light geese.

States and tribes that participate in the light geese conservation order must inform and brief all participants on the requirements in 50 CFR 21.60 and conservation order conditions that apply to implementation of light geese control measures. Participating States/tribes must collect information on the number of birds taken during control efforts, the methods by which they are taken, and the dates on which they are taken. We use this information to administer the conservation order and, particularly, to monitor the effectiveness of control strategies and to protect migratory birds. Each participating State must submit an annual report by August 30 of each year summarizing the activities it conducted. We contacted some participating States to estimate burden hours for this information collection.

Title of Collection: Conservation Order for Control of Mid-Continent Light Geese, 50 CFR 21.60.

OMB Control Number: 1018-0103.

Form Number: None.

Frequency of Collection: Annually.

Description of Respondents: States and tribes participating in the conservation order.

Total Annual Burden Hours: 1,776.

Total Annual Responses: 24.

We invite comments concerning this submission on (1) whether or not the collection of information is necessary for the proper performance of our migratory bird management functions, including whether or not the information will have practical utility; (2) the accuracy of our estimate of the burden of the collection of information; (3) ways to enhance the quality, utility, and clarity of the information to be collected; and (4) ways to minimize the burden of the collection of information on respondents. The information collections in this program are part of a system of records covered by the Privacy Act (5 U.S.C. 552 (a)).

Dated: March 2, 2005.
Hope Grey,
Information Collection Clearance Officer, Fish and Wildlife Service.

[FR Doc. 05-6380 Filed 3-30-05; 8:45 am]

BILLING CODE 4310-55-P